DEPARTMENT OF AGRICULTURE

Forest Service

Information Collection; Forest Industries Data Collection System

AGENCY: Forest Service, USDA.

ACTION: Notice; request for comment.

SUMMARY: In accordance with the Paperwork Reduction Act of 1995, the Forest Service is seeking comments from all interested individuals and organizations on the extension of the information collection for two questionnaires used to evaluate trends in the use of logs and wood chips, to forecast anticipated levels of logs and wood chips, and to analyze changes in the harvest of these resources from National Forest System lands.

DATES: Comments must be received in writing on or before June 30, 2003 to be assured of consideration. Comments received after that date will be considered to the extent practicable.

ADDRESSES: Comments concerning this notice should be addressed to the USDA Forest Service, Attn: Michael Howell, Forest Inventory and Analysis, Southern Research Station, 4700 Old Kingston Pike, Knoxville, TN, 37919-5206. Comments also may be submitted via facsimile to (865) 862-2048 or by e-mail to: mhowell@fs.fed.us.

The public may inspect comments received at the Southern Research Station, 4700 Old Kingston Pike, Resource Use Office, Knoxville, Tennessee during normal business hours. Visitors are encouraged to call ahead to (865) 862-2000 to facilitate entry to the building.

FOR FURTHER INFORMATION CONTACT: Michael Howell, Southern Research Station, at (865) 862-2054.

SUPPLEMENTARY INFORMATION:

Description of Information Collection

1. Title: Pulpwood Received Questionnaire.

OMB Number: 0596-0010.

Expiration Date of Approval: June 30, 2003.

Type of Request: Extension.

Abstract: The Forest and Range Renewable Resources Planning Act of 1974 and the Forest and Rangeland Renewable Resources Research Act of 1978 require the Forest Service to evaluate trends in the use of logs and wood chips, to forecast anticipated levels of logs and wood chips, and to analyze changes in the harvest of these resources from National Forest System lands.

To collect this information, Forest Service personnel use the Pulpwood Received questionnaire. Questions include what type of logs or wood chips have been received by the mill, from which geographic locations have the logs or wood chips been harvested, what variety of tree species have been harvested and received by the mill, how much was paid by the mill for the logs or wood chips, and what is the volume of byproducts that have been produced as a result of the manufacturing process, such as bark, sawdust, and slabs. The questionnaire also includes the State and the calendar year for which information will be collected.

The Forest Service mails the questionnaires to primary wood-using mills, which include small, part-time mills and pulping companies, as well as large paper companies. Primary wood-using mills are facilities that use harvested wood in log or chip form, such as sawlogs, veneer logs, pulpwood, and pulp chips, to manufacture a secondary product, such as lumber or paper. Respondents return the completed questionnaire by mail in self-addressed, postage-paid envelopes.

The information is collected by Forest Service personnel at the following Forest Service research stations: Northeast Research Station (Radnor, Pa), North Central Research Station (St. Paul, Mn), Southern Research Station (Asheville, NC), Rocky Mountain Research Station (Ogden, Ut), and Pacific Northwest Research Station (Portland, Or). The data collected will be used to provide essential information about the current drain on the Nation's timber resources for pulpwood industrial products.

Forest Service personnel will evaluate the information collected from the pulp mills to monitor the volume, types, species, sources, and prices of timber products harvested throughout the Nation. The data from this collection of information is not available from other sources.

Estimate of Annual Burden: 0.5 hours.

Type of Respondents: Primary users of industrial pulpwood and wood chips.

Estimated Annual Number of Respondents: 225.

Estimated Annual Number of Responses per Respondent: 1.

Estimated Total Annual Burden on Respondents: 113.

2. Title: Logs and Other Roundwood Received Questionnaire.

OMB Number: 0596-0010.

Expiration Date of Approval: June 30, 2003.

Type of Request: Extension.

Abstract: The Forest and Range Renewable Resources Planning Act of 1974 and the Forest and Rangeland Renewable Resources Research Act of 1978 require the Forest Service to evaluate trends in the use of logs and wood chips, to forecast anticipated levels of logs and wood chips, and to analyze changes in the harvest of these resources from National Forest System lands.

To collect the information, Forest Service personnel use the Logs and Other Roundwood Received questionnaire. The questionnaire is mailed to primary wood-using mills, which include small, part-time mills as well as large corporate entities. The Logs and Other Roundwood Received questionnaire includes the State and the calendar year for which information will be collected. Respondents return the completed questionnaire by mail in self-addressed, postage-paid envelopes.

The information is to be collected by Forest Service personnel at the following Forest Service research stations: Northeast Research Station (Radnor, Pa), North Central Research Station (St. Paul, Mn), Southern Research Station (Asheville, NC), Rocky Mountain Research Station (Ogden, Ut), and Pacific Northwest Research Station (Portland, Or).

Respondents answer questions that include the type of logs or wood chips that have been received by the mill, the geographic locations from which the logs or wood chips have been harvested, the variety of tree species that have been harvested and received by the mill, the prices the mill has paid for the logs or wood chips, and the volume of byproducts that have been produced as a result of the manufacturing process, such as bark, sawdust, and slabs.

The Forest Service will collect information from primary wood-using mills, which includes small, part-time mills, as well as large corporate entities. Primary wood-using mills are facilities that use harvested wood in log or chip form, such as sawlogs, veneer logs, pulpwood, and pulp chips, to manufacture a secondary product, such as lumber or paper. The data collected is used to provide essential information about the current drain on the Nation's timber resources for pulpwood industrial products.

Forest Service personnel evaluate the information collected from the pulp mills to monitor the volume, types, species, sources, and prices of timber products harvested throughout the Nation. The data from this collection of information is not available from other sources.

Estimate of Annual Burden: 0.84 hours.

Type of Respondents: Primary users of industrial roundwood products.

Estimated Annual Number of Respondents: 1885.

Estimated Annual Number of Responses per Respondent: 1.

Estimated Total Annual Burden on Respondents: 1583.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including names and addresses when provided, will be a matter of public record. In submitting this proposal to the Office of Management and Budget for approval, the Forest Service will summarize and respond to comments received.

Dated: April 24, 2003.
Robert Lewis, Jr.,
Deputy Chief, Research and Development.

[FR Doc. 03-10605 Filed 4-29-03; 8:45 am]

BILLING CODE 3410-11-P